DEPARTMENT OF HEALTH AND HUMAN SERVICES

Health Resources and Services Administration

Meeting of the Advisory Committee on Infant Mortality

AGENCY: Health Resources and Services Administration (HRSA), Department of Health and Human Services (HHS).

ACTION: Notice; correction.

SUMMARY: This notice announces a correction to the time of the Secretary's Advisory Committee on Infant Mortality (ACIM) scheduled public meeting. The ACIM meeting, originally scheduled for June 17, 2020, 11:00 a.m.-6:00 p.m. Eastern Time (ET) and June 18, 2020, 11:00 a.m.-3:00 p.m. ET, has been extended by 30 minutes on June 18, 2020. The meeting will now end at 3:30 p.m. on June 18, 2020. This meeting was originally announced in the Federal Register, Vol. 85, No. 95, on Friday, May 15, 2020 (FR Doc. 2020-10447 Filed 5-14-20; 8:45 a.m.). The location and agenda for the re-scheduled ACIM meeting remains the same as posted. Information about ACIM and the agenda for this meeting will be available on the ACIM website at https://www.hrsa.gov/advisory-committees/infant-mortality/index.html.

DATE and CORRECTED TIME: June 17, 2020, 11:00 a.m.-6:00 p.m. Eastern Time (ET) and June 18, 2020, 11:00 a.m.-3:30 p.m. ET.

ADDRESSES: This meeting will be held via webinar.

• The webinar link will be available at ACIM's website before the meeting: https://www.hrsa.gov/advisory-committees/infant-mortality/index.html.

• The conference call-in number will be available at ACIM's website before the meeting: https://www.hrsa.gov/advisory-committees/infant-mortality/index.html.

FOR FURTHER INFORMATION CONTACT: Juliann DeStefano, RN, MPH, at Maternal and Child Health Bureau (MCHB), HRSA, 5600 Fishers Lane, Rockville, Maryland 20857; 301-443-0883; or SACIM@hrsa.gov.

Correction: The end time of the second day of the virtual meeting was changed from 3:00 p.m. ET to 3:30 p.m. ET.

Maria G. Button,
Director, Executive Secretariat.

[FR Doc. 2020-11774 Filed 6-1-20; 8:45 am]

BILLING CODE 4165-15-P